DEPARTMENT OF ENERGY

Federal Energy Regulatory Commission

Combined Notice of Filings #1

Take notice that the Commission received the following electric rate filings:

Docket Numbers: ER10-2609-009; ER10-2606-009; ER10-2604-007; ER10-2603-007; ER10-2602-010.

Applicants: Luke Paper Company, Escanaba Paper Company, Consolidated Water Power Company, NewPage Energy Services, LLC, Rumford Paper Company.

Description: Supplement to June 30, 2014 Updated Northeast Region Market Analysis of the NewPage MBR Companies.

Filed Date: 10/8/14.

Accession Number: 20141008-5226.

Comments Due: 5 p.m. ET 2/25/15.

Docket Numbers: ER15-427-001.

Applicants: Pacific Gas and Electric Company.

Description: Tariff Amendment per 35.17(b): Answer to Twin Valley Answer Deficiency Filing to be effective 1/19/2015.

Filed Date: 2/4/15.

Accession Number: 20150204-5142.

Comments Due: 5 p.m. ET 2/25/15.

Docket Numbers: ER15-506-001.

Applicants: DeSoto County Generating Company, LLC.

Description: Tariff Amendment per 35.17(b): Response to Deficiency Letter to be effective 12/1/2014.

Filed Date: 2/4/15.

Accession Number: 20150204-5147.

Comments Due: 5 p.m. ET 2/25/15.

Docket Numbers: ER15-717-000; ER15-719-000; ER15-723-000.

Applicants: ANP Blackstone Energy Company, LLC.

Description: Supplement to December 23, 2014 ANP Blackstone Energy Company, LLC, ANP Bellingham Energy Company, LLC and GDF SUEZ Energy Marketing NA, Inc. tariff filings.

Filed Date: 2/4/15.

Accession Number: 20150204-5072.

Comments Due: 5 p.m. ET 2/25/15.

Docket Numbers: ER15-843-001.

Applicants: Kentucky Utilities Company.

Description: Tariff Amendment per 35.17(b): KU Concurrence Errata PJM 3140 to be effective 11/10/2014.

Filed Date: 2/4/15.

Accession Number: 20150204-5087.

Comments Due: 5 p.m. ET 2/25/15.

Docket Numbers: ER15-844-001.

Applicants: Louisville Gas and Electric Company.

Description: Tariff Amendment per 35.17(b): LGE Concurrence Errata PJM 3140 to be effective 11/10/2014.

Filed Date: 2/4/15.

Accession Number: 20150204-5094.

Comments Due: 5 p.m. ET 2/25/15.

Docket Numbers: ER15-963-000.

Applicants: Evraz Claymont Steel, Inc.

Description: Notice of cancellation of Evraz Claymont Steel, Inc.

Filed Date: 2/2/15.

Accession Number: 20150203-0001.

Comments Due: 5 p.m. ET 2/23/15.

Docket Numbers: ER15-968-000.

Applicants: Public Service Company of Colorado.

Description: § 205(d) rate filing per 35.13(a)(2)(iii): 2015-2-4_TSGT-Ray Lewis-O&M Agrmt-345-0.0.0 to be effective 4/4/2015.

Filed Date: 2/4/15.

Accession Number: 20150204-5000.

Comments Due: 5 p.m. ET 2/25/15.

Docket Numbers: ER15-969-000.

Applicants: PJM Interconnection, L.L.C.

Description: § 205(d) rate filing per 35.13(a)(2)(iii): First Revised Service Agreement No. 3830; Queue No. Z1-052 to be effective 1/5/2015.

Filed Date: 2/4/15.

Accession Number: 20150204-5037.

Comments Due: 5 p.m. ET 2/25/15.

Docket Numbers: ER15-970-000.

Applicants: WM North Broward, Inc.

Description: § 205(d) rate filing per 35.13(a)(2)(iii): Notice of Succession to be effective 12/22/2014.

Filed Date: 2/4/15.

Accession Number: 20150204-5055.

Comments Due: 5 p.m. ET 2/25/15.

Docket Numbers: ER15-971-000.

Applicants: New York Independent System Operator, Inc.

Description: § 205(d) rate filing per 35.13(a)(2)(iii): NYISO/TO 205 filing re: National Grid/Village of Boonville SA 2204 to be effective 1/15/2015.

Filed Date: 2/4/15.

Accession Number: 20150204-5059.

Comments Due: 5 p.m. ET 2/25/15.

Docket Numbers: ER15-972-000.

Applicants: Central Maine Power Company.

Description: Notice of Termination of Engineering and Procurement Service Agreement No. CMP-EP-1-S of Central Maine Power Company.

Filed Date: 2/4/15.

Accession Number: 20150204-5100.

Comments Due: 5 p.m. ET 2/25/15.

Docket Numbers: ER15-973-000.

Applicants: Central Maine Power Company.

Description: Notice of Termination of Engineering and Procurement Service Agreement No. CMP-EP-4 of Central Maine Power Company.

Filed Date: 2/4/15.

Accession Number: 20150204-5101.

Comments Due: 5 p.m. ET 2/25/15.

Docket Numbers: ER15-974-000.

Applicants: Central Maine Power Company.

Description: Notice of Termination of Engineering and Procurement Service Agreement No. CMP-EP-2 of Central Maine Power Company.

Filed Date: 2/4/15.

Accession Number: 20150204-5102.

Comments Due: 5 p.m. ET 2/25/15.

Docket Numbers: ER15-975-000.

Applicants: Central Maine Power Company.

Description: Notice of Termination of Engineering and Procurement Service Agreement No. CMP-EP-2-S of Central Maine Power Company.

Filed Date: 2/4/15.

Accession Number: 20150204-5103.

Comments Due: 5 p.m. ET 2/25/15.

Docket Numbers: ER15-976-000.

Applicants: Wolverine Power Supply Cooperative, Inc.

Description: Application to Approve the Reclassification by the Michigan Public Service Commission of Certain Assets and Include the Associated Revenue Requirements of Wolverine Power Supply Cooperative, Inc.

Filed Date: 2/4/15.

Accession Number: 20150204-5105.

Comments Due: 5 p.m. ET 2/25/15.

Docket Numbers: ER15-977-000.

Applicants: Midcontinent Independent System Operator, Inc., American Transmission Systems, Incorporated.

Description: § 205(d) rate filing per 35.13(a)(2)(iii): 2015-02-04_SA 2737 ATC-WPSC PCA (James St.) to be effective 4/6/2015 under ER15-977 Filing Type: 10.

Filed Date: 2/4/15.

Accession Number: 20150204-5107.

Comments Due: 5 p.m. ET 2/25/15.

Docket Numbers: ER15-978-000.

Applicants: Midcontinent Independent System Operator, Inc., American Transmission Systems, Incorporated.

Description: § 205(d) rate filing per 35.13(a)(2)(iii): 2015-02-04_SA 2738 ATC-WPSC Project Services Agreement to be effective 4/6/2015.

Filed Date: 2/4/15.

Accession Number: 20150204-5111.

Comments Due: 5 p.m. ET 2/25/15.

Docket Numbers: ER15-979-000.

Applicants: Midcontinent Independent System Operator, Inc., American Transmission Systems, Incorporated.

Description: § 205(d) rate filing per 35.13(a)(2)(iii): 2015-02-04_SA 2739 ATC-UPPCO Project Services Agreement to be effective 4/6/2015.

Filed Date: 2/4/15.

Accession Number: 20150204-5121.

Comments Due: 5 p.m. ET 2/25/15.

Docket Numbers: ER15-980-000.

Applicants: Midcontinent Independent System Operator, Inc., American Transmission Systems, Incorporated.

Description: § 205(d) rate filing per 35.13(a)(2)(iii): 2015-02-04_SA 2740 ATC-Wisconsin Electric FCA (Enbridge) to be effective 4/6/2015.

Filed Date: 2/4/15.

Accession Number: 20150204-5128.

Comments Due: 5 p.m. ET 2/25/15.

Docket Numbers: ER15-981-000.

Applicants: Midcontinent Independent System Operator, Inc., American Transmission Systems, Incorporated.

Description: § 205(d) rate filing per 35.13(a)(2)(iii): 2015-02-04_SA 2741 ATC-Wisconsin Electric Project Services Agreement to be effective 4/6/2015.

Filed Date: 2/4/15.

Accession Number: 20150204-5129.

Comments Due: 5 p.m. ET 2/25/15.

Docket Numbers: ER15-982-000.

Applicants: Midcontinent Independent System Operator, Inc., American Transmission Systems, Incorporated.

Description: § 205(d) rate filing per 35.13(a)(2)(iii): 2015-02-04_SA 2742 ATC-Wisconsin Power and Light FCA (Enbridge) to be effective 4/6/2015.

Filed Date: 2/4/15.

Accession Number: 20150204-5131.

Comments Due: 5 p.m. ET 2/25/15.

Docket Numbers: ER15-983-000.

Applicants: Midcontinent Independent System Operator, Inc., American Transmission Systems, Incorporated.

Description: § 205(d) rate filing per 35.13(a)(2)(iii): 2015-02-04_SA 2743 ATC-Wisconsin Power and Light PCA (Didion) to be effective 4/6/2015.

Filed Date: 2/4/15.

Accession Number: 20150204-5138.

Comments Due: 5 p.m. ET 2/25/15.

Docket Numbers: ER15-984-000.

Applicants: Midcontinent Independent System Operator, Inc., American Transmission Systems, Incorporated.

Description: § 205(d) rate filing per 35.13(a)(2)(iii): 2015-02-04_SA 2744 ATC-Wisconsin Power and Light PCA (Dickinson) to be effective 4/6/2015.

Filed Date: 2/4/15.

Accession Number: 20150204-5140.

Comments Due: 5 p.m. ET 2/25/15.

Docket Numbers: ER15-985-000.

Applicants: Midcontinent Independent System Operator, Inc., American Transmission Systems, Incorporated.

Description: § 205(d) rate filing per 35.13(a)(2)(iii): 2015-02-04_SA 2745 ATC-Wisconsin Power and Light PSA to be effective 4/6/2015.

Filed Date: 2/4/15.

Accession Number: 20150204-5143.

Comments Due: 5 p.m. ET 2/25/15.

Docket Numbers: ER15-986-000.

Applicants: Midcontinent Independent System Operator, Inc., American Transmission Systems, Incorporated.

Description: § 205(d) rate filing per 35.13(a)(2)(iii): 2015-02-04_SA 2746 ATC-Madison Gas and Electric PCA (Huiskamp) to be effective 4/6/2015.

Filed Date: 2/4/15.

Accession Number: 20150204-5144.

Comments Due: 5 p.m. ET 2/25/15.

Docket Numbers: ER15-987-000.

Applicants: Midcontinent Independent System Operator, Inc., American Transmission Systems, Incorporated.

Description: § 205(d) rate filing per 35.13(a)(2)(iii): 2015-02-04_SA 2747 ATC-Madison Gas and Electric PSA to be effective 4/6/2015.

Filed Date: 2/4/15.

Accession Number: 20150204-5146.

Comments Due: 5 p.m. ET 2/25/15.

Take notice that the Commission received the following qualifying facility filings:

Docket Numbers: QF15-373-000.

Applicants: Sierra Pacific Industries.

Description: Form 556 of Sierra Pacific Industries.

Filed Date: 1/27/15.

Accession Number: 20150127-5325.

Comments Due: None Applicable.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: February 4, 2015.
Nathaniel J. Davis, Sr.,
Deputy Secretary.

[FR Doc. 2015-02701 Filed 2-9-15; 8:45 am]

BILLING CODE 6717-01-P